DEPARTMENT OF TRANSPORTATION

Coast Guard

33 CFR PART 165

[CGD09-02-035]

RIN 2115-AA97

Safety Zone; Navy Pier, Lake Michigan, Chicago Harbor, IL

AGENCY: Coast Guard, DOT.

ACTION: Temporary final rule.

SUMMARY: The Coast Guard is establishing a temporary safety zone for fireworks displays that will occur on a regular basis off the Navy Pier during the summer of 2002. The safety zone encompasses a portion of the navigable waters in Chicago Harbor, Lake Michigan. The safety zone is needed to protect vessels and spectators during fireworks shows scheduled for various dates during the summer of 2002.

DATES: This rule is effective from 9 p.m. (local) June 1, 2002 until 11 p.m. (local) on September 1, 2002.

ADDRESSES: The Marine Safety Office, Chicago, Illinois maintains the public docket (CGD09-02-035) for this rule. Documents indicated in this preamble will be available for inspection or copying at the Coast Guard Marine Safety Office, 215 W. 83rd Street, Suite D, Burr Ridge, Ill., between 9:30 a.m. and 2 p.m. Monday through Friday, except Federal Holidays.

FOR FURTHER INFORMATION CONTACT: MST3 Kathryn Varela, U. S. Coast Guard Marine Safety Office Chicago, at (630) 986-2125.

SUPPLEMENTARY INFORMATION:

Regulatory Information

We did not publish a notice of proposed rulemaking (NPRM) for this regulation. Under 5 U.S.C. 553(b)(B), the Coast Guard finds that good cause exists for not publishing an NPRM, and under 5 U.S.C. 553(d)(3), good cause exists for making this rule effective less than 30 days after publication in the Federal Register. The permit application was not received in time to publish an NPRM followed by a final rule before the necessary effective date. Delaying this rule would be contrary to the public interest of ensuring the safety of spectators and vessels during this event and immediate action is necessary to prevent possible loss of life or property.

Background and Purpose

This temporary safety zone is necessary to ensure the safety of vessels and spectators from hazards associated with a fireworks display. Based on recent accidents that have occurred in other Captain of the Port zones, and the explosive hazard of fireworks, the Captain of the Port Chicago has determined firework launches in close proximity to watercraft pose significant risks to public safety and property. The likely combination of large numbers of recreational vessels, congested waterways, darkness punctuated by bright flashes of light, alcohol use, and debris falling into the water could easily result in serious injuries or fatalities. Establishing a safety zone to control vessel movement around the location of the launch platforms will help ensure the safety of persons and property at these events and help minimize the associated risks.

Both a primary and alternate launch site are being established. In the event of inclement weather, the Coast Guard will notify the public via the Broadcast Notice to Mariners if they are using the alternate launch platform.

Entry into, transit through or anchoring within this safety zone is prohibited unless authorized by the Captain of the Port, Chicago or his designated on-scene representative. The designated on-scene representative may be contacted on VHF/FM Marine Channel 16.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, l979). The Coast Guard expects the economic impact of this proposal to be so minimal that a full Regulatory Evaluation under paragraph 10e of the regulatory policies and procedures of DOT is unnecessary.

Small Entities

Under the Regulatory Flexibility Act (5 U.S.C. 601-612), the Coast Guard considered whether this rule will have a significant impact on a substantial number of small businesses and not-for-profit organizations that are independently owned and operated are not dominant in their respective fields, and governmental jurisdictions with populations less than 50,000.

The Coast Guard certifies under section 605(b) of the Regulatory Flexibility Act (5 U.S.C.601-612) that this temporary final rule will not have a significant economic impact on a substantial number of small entities.

Assistance for Small Entities

In accordance with section 213(a) of the Small Business Regulatory Enforcement Fairness Act of 1996 (Public Law 104-121), the Coast Guard offered to assist small entities in understanding this rule so that they can better evaluate its effectiveness and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions, call 1-888-REG-FAIR (1-888-734-3247).

Collection of Information

This rule contains no information collection requirements under the Paperwork Reduction Act of 1995 (44 U.S.C. 3501-3520).

Federalism

The Coast Guard has analyzed this rule under Executive Order 13132, Federalism, and has determined that this rule does not have implications under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This proposed rule will not effect a taking of private property or otherwise have taking implications under Executive Order 12630, Governmental Actions and Interference with Constitutionally Protected Property Rights.

Civil Justice Reform

This rule meets applicable standards in sections 3(a) and 3(b) (2) of Executive Order 12988, Civil Justice Reform, to minimize litigation, eliminate ambiguity, and reduce burden.

Protection of Children

The Coast Guard has analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this regulation and concluded that, under figure 2-1, paragraph (34)(g) of Commandant Instruction M16475.1C, it is categorically excluded from further environmental documentation. A “Categorical Exclusion Determination” is available in the docket for inspection or copying where indicated under ADDRESSES.

List of Subjects in 33 CFR Part 165

Harbors, Marine safety, Navigation (water), Reporting and recordkeeping requirements, Security measures, Vessels, Waterways.

For the reasons discussed in the preamble, the Coast Guard amends 33 CFR part 165 as follows:

PART 165—REGULATED NAVIGATION AREAS AND LIMITITED ACCESS AREAS.

1. The authority citation for part 165 continues to read as follows:

Authority: 33 U.S.C. 1231; 50 U.S.C. 191, 33 CFR 1.05-1(g), 6.04-1, 6.04-6, 160.5; 49 CFR 1.46.

2. From 9 p.m. on June 1, 2002 until 11 p.m. on September 1, 2002, a new temporary § 165.T09-034 is added to read as follows:

§ 165.T09-034 Safety Zone; Navy Pier, Lake Michigan, Chicago Harbor, IL.

(a) Locations. (1) Primary launch site. All waters of Lake Michigan bounded by the arc of a circle with a 1500-foot radius from the fireworks launch platform with its center in approximate position 41°53′18″ N, 087°36′08″ W. These coordinates are based upon North American Datum 1983.

(2) Alternate launch site. In the case of inclement weather, the alternate launch site is all waters of Lake Michigan bounded by the arc of a circle with a 1500-foot radius with its center in approximate position 41°53′24″ N, 087°35′44″ W.

(b) Enforcement period. This section is effective from 9 p.m. (local) June 1, 2002 until 11 p.m. (local) September 1, 2002. The section will be enforced from 9 p.m. until 11 p.m.; on June 1, June 5, June 8, June 12, June 15, June 19, June 22, June 26 June 29, July 3, July 4, July 6, July 10, July 13, July 17, July 20, July 24, July 31, August 3, August 7, August 10, August 14, August 17, August 21, August 24, August 28, August 31, and September 1, 2002.

(c) Regulations. In accordance with § 165.23 of this part, entry into this zone is prohibited unless authorized by the Coast Guard Captain of the Port, Chicago, or his designated on-scene representative. Section 165.23 also contains other applicable general requirements.

Dated: June 10, 2002.
R.E. Seebald,
Captain, U.S. Coast Guard, Captain of the Port Chicago.

[FR Doc. 02-15199 Filed 6-14-02; 8:45 am]

BILLING CODE 4910-15-P